DEPARTMENT OF HEALTH AND HUMAN SERVICES

Office of the Secretary

Agency Information Collection Activities: Proposed Collections; Comment Request

The Department of Health and Human Services, Office of the Secretary will periodically publish summaries of proposed information collection projects and solicit public comments in compliance with the requirements of Section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Projects 1. Federal Government-wide Automated Assurance and Institutional Review Board Registration System—NEW—The Office of Human Research Protection is proposing a Government-wide standardized, automated process for filing the assurance pertaining to the protection of human subjects in research, and for registering Institutional Review Boards (IRBs). Respondents: Research Institutions; Burden Information for the Assurance—Annual Number of Respondents: 1,334; Average Burden per Response: 2 hours; Total Annual Burden for Assurance: 2,668—Burden Information for IRB Registration—Annual Number of Respondents: 667; Average Burden per Response: 1 hour; Total Annual Burden for IRB Registration: 667 hours—Total Burden: 3335 hours.

Send comments to Cynthia Agens Bauer, OS Reports Clearance Officer, Room 503H, Humphrey Building, 200 Independence Avenue SW., Washington, DC 20201. Written comments should be received within 60 days of this notice.

Dated: December 7, 2000.
Dennis P. Williams,
Deputy Assistant Secretary, Budget.

[FR Doc. 00-32388 Filed 12-19-00; 8:45 am]

BILLING CODE 4160-17-M